DEPARTMENT OF LABOR

Employment and Training Administration

[TA-W-82,221]

Plexus Corporation; Neenah Operations; Including On-Site Leased Workers From Kelly Services, Inc., Aerotek and Gold Star Solutions, Inc. Neenah, Wisconsin; Notice of Initiation of Investigation To Terminate Certification of Eligibility

Pursuant to section 221 of the Trade Act of 1974, as amended, an investigation was initiated on December 6, 2012 in response to a petition for Trade Adjustment Assistance (TAA) filed by the State of Wisconsin on behalf of workers of Plexus Corporation, Neenah Operations, including on-site leased workers of Kelly Services, Inc., Neenah, Wisconsin (Plexus-Neenah). The petition states “Plexus has factories in Malaysia, China, Mexico, and Europe.” The subject workers are engaged in activities related to the production of printed circuit boards. During the investigation, the Department received information from the subject firm confirming a shift of production by the subject firm of an article like or directly competitive with the printed circuit boards produced by the workers from Neenah, Wisconsin to a foreign country.

Based on information obtained during the investigation, the Department determined that Sections 222(a)(1) and 222(a)(2)(B) of the Trade Act of 1974, as amended, 19 U.S.C. 2272(a), have been met and issued on April 5, 2013 a certification of eligibility to apply for TAA applicable to workers and former workers of Plexus-Neenah, which states “the workers' firm has shifted to a foreign country the production of an article like or directly competitive with the article produced by the workers which contributed importantly” to worker separations at Plexus-Neenah.

On January 29, 2014, the Department issued an amended certification of eligibility to apply for TAA applicable to leased workers of Aerotek and Gold Star Solutions, Inc. working on-site at Plexus-Neenah.

In a July 24, 2014 press release (“Plexus Commitment to Wisconsin”), Plexus Corporation stated:

In 2012, Plexus experienced a disruptive event when our largest customer at the time, which represented approximately 16% of Plexus' global revenue, unexpectedly announced its decision to disengage from Plexus. This customer disengagement represented a significant challenge for the Company and unfortunately resulted in the loss of jobs in Wisconsin. These jobs were not moved to Plexus locations outside the U.S. but instead were lost from Plexus altogether as the result of the customer's decision to move its programs to our competitors' locations outside the U.S. While the significant customer disengagement was a challenging event for us, we have regained many of the jobs that were lost in 2012 and 2013 and are back on a path of growth in Neenah, Wisconsin.

According to 29 CFR 90.17(a), “Whenever the Director of the Office of Trade Adjustment Assistance has reason to believe, with respect to any certification of eligibility, that the total or partial separations from a firm or appropriate subdivision thereof are no longer attributable to the conditions specified in section 222 of the Act and § 90.16(b), the Director shall promptly make an investigation.”

In accordance with 29 CFR 90.17(a), the Department will conduct an investigation to determine whether workers and former workers of Plexus-Neenah have met the criteria set forth in the Trade Act of 1974, as amended, and will issue a determination based on this investigation.

Signed in Washington, DC, this 8th day of August, 2014.
Del Min Amy Chen,
Certifying Officer, Office of Trade Adjustment Assistance.

[FR Doc. 2014-19946 Filed 8-21-14; 8:45 am]

BILLING CODE 4510-FN-P